FEDERAL HOUSING FINANCE BOARD

Sunshine Act Meeting Notice; Announcing a Partially Open Meeting of the Board of Directors

Time and Date: The open meeting of the Board of Directors is scheduled to begin at 10 a.m. on Wednesday, September 14, 2005. The closed portion of the meeting will follow immediately the open portion of the meeting.

Place: Board Room, First Floor, Federal Housing Finance Board, 1625 Eye Street NW., Washington DC 20006.

Status: The first portion of the meeting will be open to the public. The final portion of the meeting will be closed to the public.

Matters to be Considered at the Open Portion:

Fiscal Year 2006 Budget. The Board of Directors will consider a resolution adopting the Finance Board's fiscal year 2006 budget.

Annual Performance Budget for Fiscal Year 2006. The Government Performance and Results Act of 1993 and Office of Management and Budget Circular A-11 require agencies to produce an Annual Performance Budget that links performance goals with costs for achieving a target level of performance. The Board of Directors will consider a resolution adopting a Fiscal Year 2006 Annual Performance Budget for the Finance Board.

Matter to be Considered at the Closed Portion:

Periodic Update of Examination Program Development and Supervisory Findings.

Contact Person for More Information: Shelia Willis, Paralegal Specialist, Office of General Counsel, at 202-408-2876 or williss@fhfb.gov.

By the Federal Housing Finance Board.
Dated: September 8, 2005.
Neil R. Crowley,
Deputy General Counsel.

[FR Doc. 05-18086 Filed 9-8-05; 12:26 pm]

BILLING CODE 6725-01-P